SECURITIES AND EXCHANGE COMMISSION

Sunshine Act Meeting

Federal Register Citation of Previous Announcement: 69 FR 7988, February 20, 2004

Status: Closed meeting.

Place: 450 Fifth Street, NW., Washington, DC.

Date and Time of Previously Announced Meeting: Wednesday, February 25, 2004, at 12 noon.

Change in the meeting: Cancellation of meeting.

The closed meeting scheduled for Wednesday, February 25, 2004, has been cancelled.

For further information please contact the Office of the Secretary at (202) 942-7070.

Dated: February 23, 2004.
Jonathan G. Katz,
Secretary.

[FR Doc. 04-4360 Filed 2-24-04; 11:15 am]

BILLING CODE 8010-01-P